DEPARTMENT OF TRANSPORTATION

Federal Aviation Administration

14 CFR Part 39

[Docket No. FAA-2025-0745; Project Identifier MCAI-2025-00187-T; Amendment 39-23028; AD 2025-09-07]

RIN 2120-AA64

Airworthiness Directives; Airbus SAS Airplanes

AGENCY: Federal Aviation Administration (FAA), DOT.

ACTION: Final rule; request for comments.

SUMMARY: The FAA is adopting a new airworthiness directive (AD) for certain Airbus SAS Model A330-243, -243F, -841, and -941 airplanes. This AD was prompted by reports of loss of data synchronization between radio management panels (RMPs) and the audio management unit (AMU). This AD requires revising the existing airplane flight manual (AFM) by providing instructions to address dual loss of RMP data synchronization, and the existing minimum equipment list (MEL) by removing relief for an inoperative RMP 3. The FAA is issuing this AD to address the unsafe condition on these products.

DATES: This AD is effective May 15, 2025.

The FAA must receive comments on this AD by June 16, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0745; or in person at Docket Operations between 9 a.m. and 5 p.m., Monday through Friday, except Federal holidays. The AD docket contains this final rule, the mandatory continuing airworthiness information (MCAI), any comments received, and other information. The street address for Docket Operations is listed above.

FOR FURTHER INFORMATION CONTACT: James Clary, Aviation Safety Engineer, FAA, 2200 South 216th St., Des Moines, WA 98198; phone: 817-222-5138; email: James.Clary@faa.gov.

SUPPLEMENTARY INFORMATION:

Comments Invited

The FAA invites you to send any written data, views, or arguments about this final rule. Send your comments to an address listed under the ADDRESSES section. Include “Docket No. FAA-2025-0745; Project Identifier MCAI-2025-00187-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to James Clary, Aviation Safety Engineer, FAA, 2200 South 216th St., Des Moines, WA 98198; phone: 817-222-5138; email: James.Clary@faa.gov. Any commentary that the FAA receives which is not specifically designated as CBI will be placed in the public docket for this rulemaking.

Background

The European Union Aviation Safety Agency (EASA), which is the Technical Agent for the Member States of the European Union, has issued EASA AD 2025-0043, dated February 19, 2025 (EASA AD 2025-0043) (also referred to as “the MCAI”), to correct an unsafe condition for Airbus SAS Model A330-243, -243F, -841, and -941 airplanes with the digital RMP function installed by modification 207423. The MCAI states loss of data synchronization between the RMPs and the AMU were reported. Such loss of data synchronization can lead to the loss of radio communication, uncommanded changes of transponder and traffic alert and collision avoidance system (TCAS) settings, and activation of standby navigation mode on all RMPs. This condition, if not corrected, could result in total loss of radio communication if RMP 3 is inoperative prior to dispatch, including loss of transponder functionality and standby navigation.

Accordingly, EASA AD 2025-0043 describes procedures for revising the existing AFM by providing instructions to address dual loss of RMP data synchronization. EASA AD 2025-0043 also specifies procedures for revising the master minimum equipment list (MMEL) by adding relief to allow airplane dispatch with an inoperative RMP 1 or RMP 2 (instead of only RMP 2) and removing the relief that allows airplane dispatch with an inoperative RMP 3.

The FAA is issuing this AD to address the unsafe condition on these products.

You may examine the MCAI in the AD docket at regulations.gov under Docket No. FAA-2025-0745.

FAA's Determination

This product has been approved by the aviation authority of another country and is approved for operation in the United States. Pursuant to the FAA's bilateral agreement with this State of Design Authority, it has notified the FAA of the unsafe condition described in the MCAI referenced above. The FAA is issuing this AD after determining that the unsafe condition described previously is likely to exist or develop on other products of the same type design.

Requirements of This AD

This AD requires accomplishing the actions specified in EASA AD 2025-0043 described previously, except as discussed under “Differences Between This AD and the MCAI.”

Compliance With AFM and MEL Revisions

EASA AD 2025-0043 requires operators to “inform all flight crews” of revisions to the AFM and MEL, and thereafter to “operate the aeroplane accordingly.” However, this AD does not specifically require those actions as those actions are already required by FAA regulations.

FAA regulations require that operators furnish to pilots any changes to the AFM (for example, 14 CFR 121.137) and that pilots are familiar with the AFM (for example, 14 CFR 91.505). As with any other flightcrew training requirement, training on the updated AFM content is tracked by the operators and recorded in each pilot's training record, which is available for the FAA to review. FAA regulations also require pilots to follow the procedures in the AFM including all updates. Section 91.9 requires that any person operating a civil aircraft must comply with the operating limitations specified in the AFM.

FAA regulations (14 CFR 121.628(a)(2)) require operators to provide pilots with access to all of the information contained in the operator's MEL. Further, § 121.628(a)(5) requires airplanes to be operated under all applicable conditions and limitations contained in the operator's MEL.

Therefore, including a requirement in this AD to operate the airplane according to the revised AFM or MEL would be redundant and unnecessary.

Differences Between This AD and the MCAI

The Airbus MMEL update referenced in EASA AD 2025-0043 allows airplane dispatch with an inoperative RMP 1 or RMP 2. This AD, however, does not allow dispatch with an inoperative RMP 1. According to FAA MMEL Policy Letter 63, revision 4, dated July 5, 2012, the MMEL/MEL may not provide relief for instruments and equipment that are necessary for accomplishing an emergency procedure. However, relief may be considered for redundant instruments or equipment powered by the same power source used for accomplishing the emergency procedure.

The digital RMP function consists of three RMPs, but only RMP 1 functions in an emergency electrical configuration (i.e., RMP 2 and RMP 3 are not available if the flightcrew needs to switch to emergency power). Therefore, the FAA has determined that an airplane cannot be dispatched with an inoperative RMP 1 because it is essential for safe operation under emergency conditions.

Interim Action

The FAA considers that this AD is an interim action. The design approval holder is currently developing a modification that will address the unsafe condition identified in this AD. Once this modification is developed, approved, and available, the FAA might consider additional rulemaking.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because dual loss of data synchronization between RMP 1/RMP 2 and the AMU during flight, in combination with an inoperative RMP 3 prior to takeoff, could result in total loss of radio communication, transponder functionality, and standby navigation, impacting the flightcrew's ability to safely navigate, avoid air traffic collisions, and safely land the airplane. In addition, the compliance time for the required actions is 7 days, which is a shorter time period than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 86 airplanes of U.S. registry. The FAA estimates the following costs to comply with this AD:

Estimated Costs for Required Actions
Action | Labor cost | Parts cost | Cost per product | Cost on U.S. operators
AFM Revision | 1 work-hour × $85 per hour = $85 | $0 | $85 | $7,310
MEL Revision | 1 work-hour × $85 per hour = $85 | 0 | 85 | 7,310

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-09-07 Airbus SAS: Amendment 39-23028; Docket No. FAA-2025-0745; Project Identifier MCAI-2025-00187-T.

(a) Effective Date

This airworthiness directive (AD) is effective May 15, 2025.

(b) Affected ADs

None.

(c) Applicability

This AD applies to Airbus SAS Model A330-243, -243F, -841, and -941 airplanes, certificated in any category, with the digital radio management panel (RMP) function installed by Airbus modification 207423.

(d) Subject

Air Transport Association (ATA) of America Code 23, Communications.

(e) Unsafe Condition

This AD was prompted by reports of loss of data synchronization between RMPs and the audio management unit (AMU). The FAA is issuing this AD to address loss of radio communication, uncommanded changes of transponder and traffic alert and collision avoidance system (TCAS) settings, and activation of standby navigation mode on all RMPs. This condition, if not corrected, could result in total loss of radio communication if RMP 3 is inoperative prior to dispatch, including loss of transponder functionality and standby navigation.

(f) Compliance

Comply with this AD within the compliance times specified, unless already done.

(g) Airplane Flight Manual (AFM) Revision

Within 7 days after the effective date of this AD, revise the Emergency Procedures section of the existing AFM to include the information in figure 1 to paragraph (g) of this AD. This may be done by inserting a copy of figure 1 to paragraph (g) of this AD into the existing AFM. Using a different document with information identical to that contained in figure 1 to paragraph (g) of this AD is acceptable for compliance with the requirements of this paragraph.

Figure 1 to Paragraph (g)—AFM Procedure

(h) Minimum Equipment List (MEL) Revision

Before further flight after accomplishing the requirements of paragraph (g) of this AD, revise the existing FAA-approved MEL to prohibit airplane dispatch (operation) with an inoperative RMP 3 under the MEL item equivalent to FAA master minimum equipment list (MMEL) 23-81-01.

(i) Credit for Previous Actions

(1) This paragraph provides credit for the AFM revision required by paragraph (g) of this AD, if the revision was performed before the effective date of this AD using Airbus A330/A340 Operations Engineering Bulletin (OEB) 58, issue 1.0, dated February 7, 2025.

(2) This paragraph provides credit for the AFM revision required by paragraph (g) of this AD, if the revision was performed before the effective date of this AD using Airbus A330 Airplane Flight Manual Temporary Revision TR819, Issue 1, dated March 6, 2025.

(j) Additional AD Provisions4

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of AIR-520, Continued Operational Safety Branch, FAA, send it to the attention of the person identified in paragraph (k)(1) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or European Union Aviation Safety Agency (EASA); or Airbus SAS's EASA Design Organization Approval (DOA). If approved by the DOA, the approval must include the DOA-authorized signature.

(k) Additional Information

(1) For more information about this AD, contact James Clary, Aviation Safety Engineer, FAA, 2200 South 216th St., Des Moines, WA 98198; phone: 817-222-5138; email: James.Clary@faa.gov.

(2) Material identified in this AD that is not incorporated by reference is available at Airbus SAS, Airworthiness Office—EAL, Rond-Point Emile Dewoitine No: 2, 31700 Blagnac Cedex, France; telephone +33 5 61 93 36 96; fax +33 5 61 93 45 80; email airworthiness.A330-A340@airbus.com; website airbus.com.

(l) Material Incorporated by Reference

None.

Issued on April 25, 2025.
Peter A. White,
Deputy Director, Integrated Certificate Management Division, Aircraft Certification Service.

[FR Doc. 2025-07453 Filed 4-25-25; 4:15 pm]

BILLING CODE 4910-13-P